DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 26, 2010.

Interested persons are invited to submit written comments regarding the subject matter of the investigations to the Director, Division of Trade Adjustment Assistance, at the address shown below, not later than February 26, 2010.

The petitions filed in this case are available for inspection at the Division of Trade Adjustment Assistance, Employment and Training Administration, U.S. Department of Labor, Room N-5428, 200 Constitution Avenue, NW., Washington, DC 20210.

Signed at Washington, DC, this 1st day of February 2010.
Elliott Kushner,
Certifying Officer, Division of Trade Adjustment Assistance.

Appendix
[TAA petitions instituted between 1/25/10 and 1/29/10]
TA-W | Subject firm (petitioners) | Location | Date of institution | Date of petition
73341 | WestPoint Home—Bed Division (Comp) | Biddeford, ME | 01/25/10 | 01/22/10
73342 | WestPoint Home Engineering Office (Comp) | Valley, AL | 01/25/10 | 01/15/10
73343 | Convergys, IMG (Wkrs) | Lake Mary, FL | 01/25/10 | 01/19/10
73344 | Universal Stainless and Alloy Products (Union) | Bridgeville, PA | 01/25/10 | 01/19/10
73345 | Bartech Technical Services (State) | Huber Heights, OH | 01/25/10 | 12/16/09
73346 | Western Reserve Group (Wkrs) | Wooster, OH | 01/25/10 | 01/22/10
73347 | Summit Polymers, Inc. (Wkrs) | Portage, MI | 01/25/10 | 01/22/10
73348 | Hayes Enterprises, Inc. (Wkrs) | Potomac, MT | 01/26/10 | 01/18/10
73349 | Freres Lumber Company, Inc. (Comp) | Lyons, OR | 01/26/10 | 01/20/10
73350 | Alcan Packaging (State) | Washington, NJ | 01/26/10 | 01/25/10
73351 | Sandy Alexander (Wkrs) | Clifton, NJ | 01/26/10 | 01/25/10
73352 | Republic Special Metals, Inc. (Union) | Canton, OH | 01/26/10 | 01/20/10
73353 | Federal-Mogul (Wkrs) | Smithville, TN | 01/26/10 | 01/13/10
73354 | Hugo Boss (Wkrs) | Cleveland, OH | 01/26/10 | 01/14/10
73355 | EMC Corporation (Wkrs) | Hopkinton, MA | 01/26/10 | 01/18/10
73356 | Ceratizit Newcomer USA (Union) | Derry, PA | 01/26/10 | 01/13/10
73357 | Hutchinson Technology, Inc. (State) | Eau Claire, WI | 01/26/10 | 01/14/10
73358 | Red Wing Shoe—Danville Plant (Comp) | Danville, KY | 01/26/10 | 01/15/10
73359 | Tardy-Conners Group, LLC (Wkrs) | Monson, ME | 01/26/10 | 01/22/10
73360 | Mann-Hummel Advanced Filtration Systems (Wkrs) | Louisville, KY | 01/26/10 | 01/21/10
73361 | Sammamish Compus (Wkrs) | Redmond, WA | 01/26/10 | 01/14/10
73362 | Leggett & Platt (Comp) | Georgetown, KY | 01/27/10 | 01/20/10
73363 | Republic Engineered Products (Union) | Massillon, OH | 01/27/10 | 01/21/10
73364 | Champion Dye (Union) | Paterson, NJ | 01/27/10 | 01/20/10
73365 | Republic Engineered Products (Union) | Massillon, OH | 01/27/10 | 01/21/10
73366 | LifeSparc, Inc. (Comp) | Hollister, CA | 01/27/10 | 01/26/10
73367 | Caliber Auto Transfer of Ohio, Inc. (Comp) | Fostoria, OH | 01/27/10 | 01/26/10
73368 | NCI Group, Inc. (Wkrs) | Houston, TX | 01/27/10 | 01/25/10
73369 | Key Energy (State) | Houston, TX | 01/27/10 | 01/22/10
73370 | Thomson Reuters (Wkrs) | Independence, OH | 01/27/10 | 01/26/10
73371 | The State Media Company (Wkrs) | Columbia, SC | 01/27/10 | 01/22/10
73372 | Sylvan Hardwoods, LLC (Comp) | McRae, GA | 01/27/10 | 06/15/09
73373 | FLSmidth Spokane, Inc. (Comp) | Spokane, WA | 01/28/10 | 01/27/10
73374 | Marshalltown Company (State) | Marshalltown, IA | 01/28/10 | 01/25/10
73375 | Target Corporation (State) | Minneapolis, MN | 01/28/10 | 01/27/10
73376 | Waker Neuson (Union) | Menomonee Falls, WI | 01/28/10 | 01/27/10
73377 | Toppan Photo Masks, Inc. (Wkrs) | Round Rock, TX | 01/28/10 | 01/18/10
73378 | General Fasteners Company (Comp) | Livonia, MI | 01/28/10 | 01/27/10
73379 | Bombardier Transportation? (Comp) | Plattsburgh, NY | 01/28/10 | 01/26/10
73380 | Fiserv Fulfillment Services, Inc. (Comp) | Pittsburgh, PA | 01/28/10 | 01/22/10
73381 | Montana Rail Link (Comp) | Missoula, MT | 01/28/10 | 01/26/10
73382 | Holcim US Inc., Corporate Division (State) | Dundee, MI | 01/29/10 | 01/29/10

[FR Doc. 2010-3008 Filed 2-12-10; 8:45 am]

BILLING CODE 4510-FN-P